DEPARTMENT OF ENERGY

Federal Energy Regulatory Commission

[Project No. 2079-079]

Placer County Water Agency; Notice of Comment Period Extension

On January 10, 2019, the Commission issued a notice through the FERC eLibrary system ¹ setting March 11, 2019, as the end of the formal period to file comments, motions to intervene, protests, recommendations, and terms and conditions on the amendment application for the Middle Fork American River Hydroelectric Project No. 2079. Due to the funding lapse at certain federal agencies between December 22, 2018 and January 25, 2019, the Commission is extending the comment period until March 26, 2019.

¹ Go to https://elibrary.ferc.gov/idmws/search/intermediate.asp?link_file=yes&doclist=14735810 and select the file link to view the document.

Dated: February 19, 2019.
Kimberly D. Bose,
Secretary.

[FR Doc. 2019-03440 Filed 2-27-19; 8:45 am]

BILLING CODE 6717-01-P